DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” demote a modification request. There applications have been separated from the new application for exemption to facilitate processing.

DATES: Comments must be received on or before June 8, 2004.

ADDRESSES: Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC, or at http://dms.dot.gov.

This notice of receipt of applications for modification of exemption is published in accordance with Part 107 of the Federal hazardous materials transportation law (49 U.S.C. 5117(b); 49 CFR 1.53(b)).

Issued in Washington, DC, on May 18, 2004.
R. Ryan Posten,
Exemptions Program Officer, Office of Hazardous Materials Safety Exemptions & Approvals.

Modification Exemptions—April 2004
Application No. | Docket No. | Applicant | Modification of exemption | Nature of exemption thereof
7951-M |  | Alamance Foods, Inc., Burlington, NC | 7951 | To modify the exemption to authorize non-refillable metal containers be equipped with an alternative dome expansion device for the transportation of aerosols containing Division 2.2 materials.
8627-M |  | Nalco Energy Services, L.P., Naperville, IL | 8627 | To modify the exemption to authorize the transportation of an additional Class 3 material in non-DOT specification portable tanks.
9874-M |  | Dow Chemical Company, Midland, MI | 9874 | To modify the exemption to authorize the use of video cameras or instrumentation as an alternative to the tank truck loading requirement for the transportation of various hazardous materials.
11379-M |  | TRW Automotive, Washington, MI | 11379 | To modify the exemption to authorize a maximum carbon percent of 0.20 for both check and ladle analysis and relief from the marking requirements on packaging and shipping papers for the non-DOT specification pressure vessels.
11489-M |  | TRW Automotive, Washington, MI | 11489 | To modify the exemption to authorize the transportation of a Class 9 material without marking the exemption number on pressure vessels used in the air bag module assembly.
11592-M |  | Amtrol, Inc., West Warwick, RI | 11592 | To modify the exemption to authorize adding 10% helium to the compressed air and to increase the maximum pressure to 50 psig for the non-DOT specification steel water pump system tank.
11650-M |  | Autoliv ASP, Inc., Ogden, UT | 11650 | To modify the exemption to eliminate the ladle carbon requirement and allow the use of steel cylinders when the check analysis maximum carbon content does not exceed 0.20% for the non-DOT specification pressure vessels.
11691-M |  | PepsiCo International, Valhalla, NY | 11691 | To modify the exemption to authorize relief from the marking requirements on packaging inside ocean bulk cargo containers transporting various Class 3 and Class 8 materials.
13402-M |  | Solvay Chemicals, Inc., St. Louis, MO | 13402 | To reissue the exemption originally issued on an emergency basis for the transportation of a Division 2.2 material in DOT Specification 110A1000W multi-unit tank car tanks with a higher density than currently authorized.

[FR Doc. 04-11691 Filed 5-21-04; 8:45 am]

BILLING CODE 4909-60-M